DEPARTMENT OF ENERGY

Federal Energy Regulatory Commission

[Project No. 2576-185]

FirstLight Hydro Generating Company; FirstLight CT Housatonic LLC; Notice Granting Intervention

On January 3, 2019, the Commission issued public notice of an application, filed pursuant to section 8 of the Federal Power Act, to transfer the license for the Housatonic River Project No. 2576 from FirstLight Hydro Generating Company to FirstLight CT Housatonic LLC (together referred to as the applicants). The project consists of five developments and is located on the Housatonic River in Fairfield, New Haven, and Litchfield Counties, Connecticut. One of the developments is a pumped storage facility and uses the 5,600-acre Candlewood Lake as its upper reservoir. The notice established February 25, 2019 as the deadline to file interventions.¹

¹ On February 11, 2019, the Commission extended the original comment period from February 2, 2019 to February 25, 2019, due to a funding lapse of certain federal agencies between December 22, 2018 and January 25, 2019. 84 FR 5077 (2019).

On February 25, 2019, Candlewood Lake Authority (Authority) filed a timely motion to intervene to become a party in the proceeding.² It subsequently supplemented the motion on March 15, 2019. On March 7, 2019, the applicants filed an answer in opposition to the Authority's intervention because they allege that the Authority failed to demonstrate an interest that may be directly affected by the outcome of the proceeding or that the Authority's participation is in the public interest.³ In its March 15, 2019 response, the Authority states that it is an agent for the five municipalities that surround Candlewood Lake and act on their behalf on matters related to lake, shoreline, and watershed management to foster the preservation and enhancement of recreational, economic, scenic, public safety, and environmental values of Candlewood Lake.⁴

² The Authority incorrectly styled its intervention as a notice of intervention under 18 CFR 385.214(a). Because the Authority does not have the right to become a party in a proceeding by filing a notice of intervention, its intervention is treated as a motion to intervene in accordance to 18 CFR 214(a)(3). See also 18 CFR 385.214(a)(2) (2018) (providing “Any State Commission . . . any state fish and wildlife, water quality certification, or water rights agency . . . is a party to any proceeding upon filing a notice of intervention in that proceeding, if the notice is filed within the period established under Rule 210(b)”); Conn. Gen. Stat. Ann. 7-151a (West 2019) (establishing Connecticut lake authorities).

³ See Applicants' March 7, 2019 Answer at 2.

⁴ The Authority's March 15, 2019 Supplemental Filing at 1-2.

Pursuant to Rule 214(c)(2) of the Commission's Rules of Practice and Procedure, if an answer in opposition to a timely motion to intervene is filed within 15 days after the motion to intervene is filed, the movant becomes a party only when the motion is expressly granted.⁵

⁵ 18 CFR 385.214(c) (2018).

The Authority has an interest in the potential project impacts on Candlewood Lake. Therefore, the Authority's motion to intervene is granted.

Dated: June 25, 2019.
Nathaniel J. Davis, Sr.,
Deputy Secretary.

[FR Doc. 2019-13953 Filed 6-28-19; 8:45 am]

BILLING CODE 6717-01-P